Proclamation 8984 of May 17, 2013

Armed Forces Day, 2013

By the President of the United States of America

A Proclamation

Since the earliest days of our Union, America has been blessed with an unbroken chain of patriots willing to give of themselves so their fellow citizens might live free. Whenever our Nation has come under attack, courageous men and women in uniform have risen to her defense. Whenever our liberties have come under assault, our service members have responded with resolve. Time and again, these heroes have sacrificed to sustain that powerful promise that we hold so dear—life, liberty, and the pursuit of happiness. And on Armed Forces Day, we honor those who serve bravely and sacrifice selflessly in our name.

Our Soldiers, Sailors, Airmen, Marines, and Coast Guardsmen represent the best of the American character. They serve with integrity and do whatever the country they love asks of them, choosing flag over fortune and service over self-interest. Year after year, tour after tour, their dedication to protecting us at home and preserving our ideals never wavers; their commitment to each other never falters. They are the few who carry the remarkable weight of our entire Nation, and in their example we see why America is and always will be the greatest country on Earth.

Today, we pause to express our gratitude, mindful that words and ceremonies are not enough and that our thanks extend not only to those in uniform, but also to the families who serve alongside them. We are bound by a sacred obligation to ensure our service members and their loved ones have the resources and benefits they have earned and deserve, and only when we uphold this trust do we truly show our appreciation for our Armed Forces.

NOW, THEREFORE, I, BARACK OBAMA, President of the United States of America, and Commander in Chief of the Armed Forces of the United States, continuing the precedent of my predecessors in office, do hereby proclaim the third Saturday of each May as Armed Forces Day.

I direct the Secretary of Defense on behalf of the Army, Navy, Air Force, and Marine Corps, and the Secretary of Homeland Security on behalf of the Coast Guard, to plan for appropriate observances each year, with the Secretary of Defense responsible for encouraging the participation and cooperation of civil authorities and private citizens.

I invite the Governors of the States, the Commonwealth of Puerto Rico, and other areas subject to the jurisdiction of the United States, to provide for the observance of Armed Forces Day within their jurisdiction each year in an appropriate manner designed to increase public understanding and appreciation of the Armed Forces of the United States. I also invite veterans, civic leaders, and organizations to join in the observance of Armed Forces Day.

Finally, I call upon all Americans to display the flag of the United States at their homes on Armed Forces Day, and I urge citizens to learn more about military service by attending and participating in the local observances of the day. I also encourage Americans to volunteer at organizations that provide support to our troops.

Proclamation 8823 of May 18, 2012, is hereby superseded.

IN WITNESS WHEREOF, I have hereunto set my hand this seventeenth day of May, in the year of our Lord two thousand thirteen, and of the Independence of the United States of America the two hundred and thirty-seventh.

[FR Doc. 2013-12402

Filed 5-21-13; 11:15 am]

Billing code 3295-F3